DEPARTMENT OF HOMELAND SECURITY

Federal Emergency Management Agency

[Docket ID FEMA-2021-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP).

DATES: The date of April 6, 2022 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Gilpin County, Colorado and Incorporated Areas
Docket No.: FEMA-B-2062
City of Black Hawk | Community Planning and Development, 211 Church Street, Black Hawk, CO 80422.
City of Central City | City Hall, 141 Nevada Street, Central City, CO 80427.
Unincorporated Areas of Gilpin County | Gilpin County Courthouse, 203 Eureka Street, 2nd Floor, Central City, CO 80427.
Rice County, Minnesota and Incorporated Areas
Docket No.: FEMA-B-2075
Unincorporated Areas of Rice County | Rice County Government Services Building, 320 Northwest 3rd Street, Faribault, MN 55021.
Surry County, Virginia and Incorporated Areas
Docket No.: FEMA-B-2063
Town of Dendron | Town Hall, 2855 Rolfe Highway, Dendron, VA 23839.
Unincorporated Areas of Surry County | Surry County Government Center, 45 School Street, Surry, VA 23883.
Walworth County, Wisconsin and Incorporated Areas
Docket No.: FEMA-B-2033
City of Elkhorn | City Hall, 9 South Broad Street, Elkhorn, WI 53121.
City of Lake Geneva | City Hall, 626 Geneva Street, Lake Geneva, WI 53147.
Unincorporated Areas of Walworth County | Walworth County Government Center, 100 West Walworth Street, Elkhorn, WI 53121.
Village of Bloomfield | Bloomfield Municipal Center, N1100 Town Hall Road, Pell Lake, WI 53157.
Village of East Troy | Village Hall, 2015 Energy Drive, East Troy, WI 53120.
Village of Genoa City | Village Hall, 755 Fellows Road, Genoa City, WI 53128.
Village of Mukwonago | Village Hall, 440 River Crest Court, Mukwonago, WI 53149.

[FR Doc. 2022-00207 Filed 1-7-22; 8:45 am]

BILLING CODE 9110-12-P